Proclamation 10763 of May 17, 2024

National Hepatitis Testing Day, 2024

By the President of the United States of America

A Proclamation

Millions of Americans have viral hepatitis, an infection of the liver that can be cured or managed with the right treatment, but every year, it takes the lives of thousands of Americans who for too long did not realize that they were sick. Testing saves lives. On National Hepatitis Testing Day, we encourage folks everywhere to help spread the word and get tested, and we commit to continuing our work to get every American the high-quality health care they need to live long, healthy lives.

Hepatitis C, the most common strain of the disease, is spread through contact with infected blood. It can take years to cause noticeable symptoms, leaving many folks unaware that anything is wrong. As a result, they can unintentionally spread the virus; pregnant women with hepatitis C can, for example, pass it on to their newborns. Left untreated, it can lead to cirrhosis, liver failure, liver cancer, and even death. Fortunately for patients and their families, there is a cure that is 95 percent effective, once folks know to seek it. But it can be very expensive for people without health insurance, putting it out of reach for too many Americans in need, and that is wrong.

We have the tools to end this public health threat, saving thousands of lives. I have proposed a comprehensive plan that would speed up testing, increase access to life-saving medication, train more medical providers, and boost research into a vaccine. For example, my plan would simplify testing by accelerating the availability of point-of-care diagnostics, which means patients could be diagnosed in a single visit rather than having to follow up with multiple tests. It would launch an innovative subscription model for hepatitis C drugs, which would expand access to life-saving treatments for individuals who are uninsured, enrolled in Medicaid, eligible to receive healthcare from the Indian Health Service, or incarcerated. It would invest in health centers and programs that deliver hepatitis care and in training more health care professionals, including programs that serve Black and Native communities—who are disproportionately affected by hepatitis C. It also supports efforts to raise awareness of the critical benefits of testing and treatment, reaching out directly to communities with high infection rates, including people who are incarcerated or in drug treatment programs. My Budget proposes investments that would help prevent serious illness and avoid serious complications from hepatitis C so that we can save lives and finally end hepatitis C in America once and for all.

At the same time, we are working to prevent hepatitis B, the second most common strain of viral hepatitis, which ultimately contributes to as many as 25 percent of people dying prematurely from liver-related diseases. Over 600,000 Americans, many from Asian American, Native Hawaiian, and Pacific Islander communities, are living with a chronic hepatitis B infection. The good news is that there is already a hepatitis B vaccine that can save lives. The Centers for Disease Control and Prevention urges all adults under 60 to be screened and vaccinated and for 30 years has recommended that children be vaccinated as well.

America has always been a place where we can get big things done together. That includes beating hepatitis once and for all. This work begins with every American taking steps to protect their own health by asking your health care provider about getting tested for hepatitis B and C and getting vaccinated for hepatitis B. My Administration will keep pushing to advance prevention, testing, treatment, and cures. Together, we can save lives.

NOW, THEREFORE, I, JOSEPH R. BIDEN JR., President of the United States of America, by virtue of the authority vested in me by the Constitution and the laws of the United States, do hereby proclaim May 19, 2024, as National Hepatitis Testing Day. I encourage all Americans to join in activities that will increase awareness about viral hepatitis and what we can do to prevent and treat it.

IN WITNESS WHEREOF, I have hereunto set my hand this seventeenth day of May, in the year of our Lord two thousand twenty-four, and of the Independence of the United States of America the two hundred and forty-eighth.

[FR Doc. 2024-11395

Filed 5-21-24; 8:45 am]

Billing code 3395-F4-P